DEPARTMENT OF JUSTICE

Notice of Lodging of Consent Decree Under the Clean Water Act

Notice is hereby given that on June 11, 2008, a proposed Consent Decree in United States et al. v. M.D.C. Holdings, Inc., et al., Civil Action No. 1:08CV604 was lodged with the United States District Court for the Eastern District of Virginia.

In this action the United States sought civil penalties and injunctive relief for alleged violations of the Clean Water Act (“CWA”), 33 U.S.C. 1311 et seq., as well as violations of state and federal National Pollutant Discharge Elimination System (“NPDES”) permits governing the discharge of storm water from construction sites owned and operated by M.D.C. Holdings and certain affiliated entities. The proposed consent decree would require M.D.C. Holdings and certain affiliated entities to pay a civil penalty of $795,000 and implement a company-wide compliance program that goes beyond current regulatory requirements.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. M.D.C. Holdings, Inc., D.J. Ref. No. 90-5-1-1-08285.

The consent decree and associated appendices may be examined at the Office of the United States Attorney, Eastern District of Virginia, 2100 Jamieson Avenue, Alexandria, Virginia 22314. During the public comment period, the consent decree also may be examined on the following Department of Justice Web site: http://www.usdoj.gov/enrd/Consent_Decrees.html. A copy of the consent decree and the associated appendices may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $39.75 (25 cents per page reproduction cost) payable to the U.S. Treasury or, if by e-mail or fax, forward a check in that amount to the Consent Decree Library at the stated address. To obtain a copy of the proposed consent decree exclusive of exhibits, please enclose a check in the amount of $18.75 (25 cents per page reproduction cost) payable to the U.S. Treasury. All requests for documents should refer to United States v. M.D.C. Holdings, Inc., Civil Action Number 1:08CV604, and D.J. Ref. No. 90-5-1-1-08285.

Karen Dworkin,
Assistant Chief, Environmental Enforcement Section, Environment and Natural Resources Division.

[FR Doc. E8-14098 Filed 6-23-08; 8:45 am]

BILLING CODE 4410-15-P